DEPARTMENT OF TRANSPORTATION

Federal Aviation Administration

14 CFR Part 39

[Docket No. FAA-2006-24364; Directorate Identifier 2004-NM-272-AD; Amendment 39-14534; AD 2006-07-07]

RIN 2120-AA64

Airworthiness Directives; Airbus Model A300 B4-600, B4-600R, and F4-600R Series Airplanes, and Model C4-605R Variant F Airplanes (Collectively Called A300-600 Series Airplanes)

AGENCY: Federal Aviation Administration (FAA), Department of Transportation (DOT).

ACTION: Final rule; correction.

SUMMARY: The FAA is correcting a typographical error in an existing airworthiness directive (AD) that was published in the Federal Register on March 31, 2006 (71 FR 16206). The error resulted in an incorrect Docket No. This AD applies to certain Airbus Model A300-600 series airplanes. This AD requires modifying nine bolt holes in the vertical flange to prevent cracking before the inspection threshold of AD 98-18-02.

DATES: Effective April 17, 2006.

ADDRESSES: The AD docket contains the proposed AD, comments, and any final disposition. You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2006-24364; the directorate identifier for this docket is 2004-NM-272-AD.

FOR FURTHER INFORMATION CONTACT: Tim Backman, Aerospace Engineer, ANM-116, International Branch, Transport Airplane Directorate, FAA, 1601 Lind Avenue, SW., Renton, Washington 98055-4056; telephone (425) 227-2797; fax (425) 227-1149.

SUPPLEMENTARY INFORMATION: On March 15, 2006, the FAA issued AD 2006-07-07, amendment 39-14534 (71 FR 16206, March 31, 2006), for certain Airbus Model A300-600 series airplanes. The AD requires modifying nine bolt holes in the vertical flange to prevent cracking before the inspection threshold of AD 98-18-02.

As published, the AD lists the Docket No. as FAA-2006-24124. The correct Docket No. is FAA-2006-24364.

No other part of the regulatory information has been changed; therefore, the final rule is not republished in the Federal Register.

The effective date of this AD remains April 17, 2006.

In the Federal Register of March 31, 2006, on page 16206, in the first column; on page 16207, in the third column; and on page 16208 in the second column; the Docket No. of AD 2006-07-07 is corrected to read as follows: FAA-2006-24364.

Issued in Renton, Washington, on April 13, 2006.
Ali Bahrami,
Manager, Transport Airplane Directorate, Aircraft Certification Service.

[FR Doc. 06-3797 Filed 4-20-06; 8:45 am]

BILLING CODE 4910-13-P